DEPARTMENT OF THE INTERIOR

National Park Service

[NPS-WASO-NRNHL-DTS#-36113; PPWOCRADI0, PCU00RP14.R50000]

National Register of Historic Places; Notification of Pending Nominations and Related Actions

AGENCY: National Park Service, Interior.

ACTION: Notice.

SUMMARY: The National Park Service is soliciting electronic comments on the significance of properties nominated before June 24, 2023, for listing or related actions in the National Register of Historic Places.

DATES: Comments should be submitted electronically by July 26, 2023.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before June 24, 2023. Pursuant to § 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers.

Key: State, County, Property Name, Multiple Name (if applicable), Address/Boundary, City, Vicinity, Reference Number.

FLORIDA

Duval County

Duval County Armory, 851 North Market St., Jacksonville, SG100009203

NEW YORK

Essex County

Kessel Park Inn, 33 and 39 Kessel Park Rd., 113 Corlear Bay Rd., Port Douglas, SG100009190

Greene County

Alpine, The, 5430 NY 23A, Hunter, SG100009189

New York County

Temple Israel of the City of New York, 210 West 91st St., New York, SG100009191

Schoharie County

Bates Christian Church, 1061 Bates Church Rd., Broome vicinity, SG100009194

Suffolk County

St. James Firehouse, 533 NY 25A, St. James, SG100009195

UTAH

Salt Lake County

Fitzgerald, Perry and Agnes, House and Cabin (Boundary Decrease), (Draper, Utah MPS), 1160 East Pioneer Ave., Draper, BC100009193

Mountair Canyon Historic District, East Mt. Aire Rd., South Mt. Aire Rd., and Maple Fork Way, Millcreek vicinity, SG100009201

Westwood Village Historic District, Roughly bounded by 2700 West (Constitution Blvd.), the rear property line of the east side of 2475 West, 3800 South, and the rear property line of the south side of 3935 South, West Valley City, SG100009202

Tooele County

Tooele City Downtown Historic District, 201 North to 154 South Main St., 24-30 West 100 South, 96 West to 48 East Vine St., Tooele, SG100009199

VIRGINIA

Newport News Independent City

Newport News Downtown Historic District, Warwick Blvd., 37th, 23rd, and 31st Sts., West and Washington Aves., Newport News, SG100009200

WISCONSIN

Door County

EMILINE (schooner) Shipwreck, (Great Lakes Shipwreck Sites of Wisconsin MPS), 0.5 miles southeast of the entrance of the Baileys Harbor marina, Baileys Harbor vicinity, MP100009197

Manitowoc County

National Tinsel and Toy Manufacturing Company Building, 1133 South 16th St., Manitowac, SG100009196

WYOMING

Sweetwater County

Morris House, 6 West 2nd North St., Green River, SG100009187

(Authority: Section 60.13 of 36 CFR part 60)

Dated: June 28, 2023.
Sherry A. Frear,
Chief, National Register of Historic Places/National Historic Landmarks Program.

[FR Doc. 2023-14608 Filed 7-10-23; 8:45 am]

BILLING CODE 4312-52-P